DEPARTMENT OF ENERGY

Federal Energy Regulatory Commission

[Docket No. RP01-205-000]

Southern Natural Gas Company; Notice of Tariff Filing

January 9, 2001.

Take notice that on December 29, 2000, Southern Natural Gas Company (Southern), tendered for filing as part of its FERC Gas Tariff, Seventh Revised Volume No. 1, the tariff sheets listed on Attachment A to the filing, with an effective date of February 1, 2001.

Southern states that the purpose of the filing is to permit Southern to charge negotiated rates for its storage and transportation services in accordance with the Statement of Policy issued by the Commission on January 31, 1996 in Docket No. RP95-6-000 (Policy Statement). Southern states that the tariff sheets include a new Section to its General Terms and Conditions describing the terms and conditions under which it would perform negotiated rate transactions and conforming language to other sections of the Tariff to reflect the ability of Southern to charge negotiated rates.

Southern states that copies of the filing will be served upon its shippers and interested state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing maybe viewed on the web at http://www.ferc.fed.us/online/rims.htm (call 202-208-2222 for assistance). Comments and protests may be filed electronically via the internet in lieu of paper. See, 18 CFR 385.2001(a)(1)(iii) and the instructions on the Commission's web site at­ http://www.ferc.fed.us/efi/doorbell.htm.

David P. Boergers,
Secretary.

[FR Doc. 01-1146 Filed 1-12-01; 8:45 am]

BILLING CODE 6717-01-M